DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Form, and OMB Number: Department of Defense Public and Community Service (PACS) Program; DD Form 2581 and 2581-1; OMB Number 0704-0324.

Type of Request: Reinstatement.

Number of Respondents: 1,165.

Responses per Respondent: 1.

Annual Responses: 1,165.

Average Burden per Response: 14 minutes.

Annual Burden Hours: 276

Needs and Uses: Public Law 102-484 requires the Secretary of Defense to maintain a Public and Community Service (PACS) Registry for employers looking to hire separated service members in jobs that fall within the scope of public and community service employment. All organizations and employers who wish to register in the PACS organizational registry must meet the Department of Defense eligibility requirements. In accordance with 10 U.S.C. 1143a(c), the PACS Registry provides separating Service members with information regarding the availability of employers who want to hire them in a PACS organization or job. DD Form 2581, “Operation Transition Employer Registration” and DD Form 2581-1, “Public and Community Service Organization Validation,” are used in support of the Department of Defense Program for public and community service employment assistance.

Affected Public: Business or other for-profit; not-for-profit institutions; Federal Government; State, Local or Tribal Government.

Frequency: On occasion.

Respondent's Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: March 28, 2001.
Patricia L. Toppings,
Alternate OSD Federal Register Liaison Officer, Department of Defense.

[FR Doc. 01-8069 Filed 4-2-01; 8:45 am]

BILLING CODE 5001-10-M